DEPARTMENT OF TRANSPORTATION

Federal Aviation Administration

14 CFR Part 39

[Docket No. FAA-2019-0536; Product Identifier 2018-CE-054-AD]

RIN 2120-AA64

Airworthiness Directives; Pilatus Aircraft Ltd. Airplanes

AGENCY: Federal Aviation Administration (FAA), Department of Transportation (DOT).

ACTION: Notice of proposed rulemaking (NPRM).

SUMMARY: The FAA proposes to adopt a new airworthiness directive (AD) for Pilatus Aircraft Ltd. Models PC-6, PC-6/350, PC-6/350-H1, PC-6/350-H2, PC-6/A, PC-6/A-H1, PC-6/A-H2, PC-6/B-H2, PC-6/B1-H2, PC-6/B2-H2, PC-6/B2-H4, PC-6/C-H2, PC-6/C1-H2, PC-6-H1, and PC-6-H2 airplanes. This proposed AD results from mandatory continuing airworthiness information (MCAI) originated by an aviation authority of another country to identify and correct an unsafe condition on an aviation product. The MCAI describes the unsafe condition as rudder shaft assemblies with incorrect rivet configuration. The FAA is proposing this AD to require actions that address the unsafe condition on these products.

DATES: The FAA must receive comments on this proposed AD by August 19, 2019.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this proposed AD, contact PILATUS Aircraft Ltd., Customer Technical Support (MCC), P.O. Box 992, CH-6371 Stans, Switzerland; phone: +41 (0)41 619 67 74; fax: +41 (0)41 619 67 73; email: techsupport@pilatus-aircraft.com; internet: http://www.pilatus-aircraft.com. You may review this referenced service information at the FAA, Policy and Innovation Division, 901 Locust, Kansas City, Missouri 64106. For information on the availability of this material at the FAA, call (816) 329-4148.

Examining the AD Docket

You may examine the AD docket on the internet at http://www.regulations.gov by searching for and locating Docket No. FAA-2019-0536; or in person at Docket Operations between 9 a.m. and 5 p.m., Monday through Friday, except Federal holidays. The AD docket contains this proposed AD, the regulatory evaluation, any comments received, and other information. The street address for Docket Operations is listed above. Comments will be available in the AD docket shortly after receipt.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Comments Invited

The FAA invites you to send any written relevant data, views, or arguments about this proposed AD. Send your comments to an address listed under the ADDRESSES section. Include “Docket No.FAA-2019-0536; Product Identifier 2018-CE-054-AD” at the beginning of your comments. The FAA specifically invites comments on the overall regulatory, economic, environmental, and energy aspects of this proposed AD. The FAA will consider all comments received by the closing date and may amend this proposed AD because of those comments.

The FAA will post all comments received, without change, to http://regulations.gov, including any personal information you provide. The FAA will also post a report summarizing each substantive verbal contact received about this proposed AD.

Discussion

The European Aviation Safety Agency (EASA), which is the Technical Agent for the Member States of the European Community, has issued AD No. 2018-0222, dated October 19, 2018 (referred to after this as “the MCAI”), to correct an unsafe condition for the specified products. The MCAI states:

During a recent check flight with a PC-6, the pilot experienced loss of rudder control. The consequent precautionary landing resulted in a runway excursion and damage to the aeroplane, but without serious injuries to the occupants. The post-event inspection of the affected rudder shaft assembly found an incorrect rivet configuration. Subsequent investigation results identified that the tapered pins had been replaced with an insufficient quantity of rivets of unknown origin, which effectively constituted a modification that does not conform to any of the three different Pilatus-approved configurations. Prompted by this event, five more aeroplanes were inspected and various non-standard rivet configurations were found in the same area. It cannot be excluded that more PC-6 aeroplanes have had a similar modification applied.

This condition, if not detected and corrected, could lead to failure or loss of rivets, possibly resulting in reduced control of the aeroplane.

To address this potential unsafe condition, Pilatus Aircraft Ltd issued the [service bulletin] SB to provide inspection instructions.

For the reasons described above, this [EASA] AD requires a one-time inspection of the affected part to determine the rivet configuration and, depending on findings, accomplishment of applicable corrective action(s). This [EASA] AD also requires inspection of affected parts held as spare, and depending on findings, corrective action(s), prior to installation.

You may examine the MCAI on the internet at http://www.regulations.gov by searching for and locating Docket No. FAA-2019-0536.

Related Service Information Under 1 CFR Part 51

Pilatus Aircraft Ltd. (Pilatus) has issued Pilatus PC-6 Service Bulletin No. 27-006, Rev. No. 1, dated September 4, 2018. The service information contains procedures for inspecting the rivet configuration on the rudder shaft assembly for size, quantity, location, and type and contacting Pilatus to obtain repair instructions if any discrepancies are found. This service information is reasonably available because the interested parties have access to it through their normal course of business or by the means identified in the ADDRESSES section.

FAA's Determination and Requirements of This Proposed AD

This product has been approved by the aviation authority of another country, and is approved for operation in the United States. Pursuant to our bilateral agreement with this State of Design Authority, they have notified us of the unsafe condition described in the MCAI and service information referenced above. The FAA is proposing this AD because it evaluated all information and determined the unsafe condition exists and is likely to exist or develop on other products of the same type design.

Costs of Compliance

The FAA estimates that this proposed AD will affect 30 products of U.S. registry. The FAA also estimates that it would take about 7 work-hours per product to comply with the inspection requirement of this proposed AD. The average labor rate is $85 per work-hour.

Based on these figures, the FAA estimates the cost of this proposed AD on U.S. operators to be $17,850, or $595 per product.

Since the repair instructions could vary significantly if discrepancies are found during the inspections, the FAA has no way of determining the number of products that may need follow-on actions or what the cost per product would be.

Authority for This Rulemaking

Title 49 of the United States Code specifies the FAA's authority to issue rules on aviation safety. Subtitle I, section 106, describes the authority of the FAA Administrator. “Subtitle VII: Aviation Programs,” describes in more detail the scope of the Agency's authority.

The FAA is issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pilatus Aircraft Ltd.: Docket No. FAA-2019-0536; Product Identifier 2018-CE-054-AD.

(a) Comments Due Date

The FAA must receive comments by August 19, 2019.

(b) Affected ADs

None.

(c) Applicability

This AD applies to Pilatus Aircraft Ltd. (Pilatus) Models PC-6, PC-6/350, PC-6/350-H1, PC-6/350-H2, PC-6/A, PC-6/A-H1, PC-6/A-H2, PC-6/B-H2, PC-6/B1-H2, PC-6/B2-H2, PC-6/B2-H4, PC-6/C-H2, PC-6/C1-H2, PC-6-H1, and PC-6-H2 airplanes, all serial numbers, certificated in any category.

Note 1 to paragraph (c) of this AD: These airplanes may also be identified as Fairchild Republic Company airplanes, Fairchild Heli Porter airplanes, or Fairchild-Hiller Corporation airplanes.

(d) Subject

Air Transport Association of America (ATA) Code 55: Stabilizers.

(e) Reason

This AD was prompted by mandatory continuing airworthiness information (MCAI) originated by an aviation authority of another country to identify and correct an unsafe condition on an aviation product. The MCAI describes the unsafe condition as rudder shaft assemblies with incorrect rivet configuration. The FAA is issuing this AD to prevent rudder shaft assembly failure, which could result in reduced control of the airplane.

(f) Actions and Compliance

Unless already done, do the following actions in paragraphs (f)(1) and (2) of this AD:

(1) Within the next 100 hours time-in-service after the effective date of this AD or within the next 12 months after the effective date of this AD, whichever occurs first, inspect the rudder shaft assembly for proper rivet configuration and repair any discrepancies before further flight in accordance with the Accomplishment Instructions—Part 1, paragraph 3.B. and table 1, of Pilatus PC-6 Service Bulletin No: 27-006, Rev. No. 1, dated September 4, 2018.

(2) After the effective date of this AD, do not install a rudder shaft assembly on any airplane unless it has been inspected in accordance with paragraph (f)(1) of this AD and found to be free of discrepancies or all discrepancies have been repaired or replaced.

(g) Alternative Methods of Compliance (AMOCs)

The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(h) Related Information

Refer to MCAI European Aviation Safety Agency AD No. 2018-0222, dated October 19, 2018, for related information. You may examine the MCAI on the internet at http://www.regulations.gov by searching for and locating Docket No. FAA-2019-0536. For service information related to this AD, contact PILATUS Aircraft Ltd., Customer Technical Support (MCC), P.O. Box 992, CH-6371 Stans, Switzerland; phone: +41 (0)41 619 67 74; fax: +41 (0)41 619 67 73; email: techsupport@pilatus-aircraft.com; internet: http://www.pilatus-aircraft.com. You may review this referenced service information at the FAA, Policy and Innovation Division, 901 Locust, Kansas City, Missouri 64106. For information on the availability of this material at the FAA, call (816) 329-4148.

Issued in Fort Worth, Texas, on June 26, 2019.
James A. Grigg,
Acting Deputy Director for Regulatory Operations, Compliance & Airworthiness Division, Aircraft Certification Service.

[FR Doc. 2019-14199 Filed 7-3-19; 8:45 am]

BILLING CODE 4910-13-P